GENERAL SERVICES ADMINISTRATION

[OMB Control No. 3090-0306; Docket No. 2025-0001; Sequence No. 17]

Information Collection; General Services Administration Acquisition Regulation; Transactional Data Reporting

AGENCY: Office of Acquisition Policy, General Services Administration (GSA).

ACTION: Notice; request for comments.

SUMMARY: Under the provisions of the Paperwork Reduction Act, the Regulatory Secretariat Division is submitting a request to the Office of Management and Budget (OMB) to review and approve an extension of a previously approved information collection requirement regarding OMB Control No. 3090-0306, Transactional Data Reporting.

DATES: Submit comments on or before: December 1, 2025.

ADDRESSES: Submit comments identified by Information Collection 3090-0306, Transactional Data Reporting via http://www.regulations.gov. Submit comments via the Federal eRulemaking portal by searching the OMB control number. Select the link “Comment” that corresponds with “3090-0306, Transactional Data Reporting.” Follow the instructions provided on the screen. Please include your name, company name (if any), and “Information Collection 3090-0306, Transactional Data Reporting” on your attached document. If your comment cannot be submitted using regulations.gov, call or email the points of contact in the FOR FURTHER INFORMATION CONTACT section of this document for alternate instructions.

Instructions: Please submit comments only and cite Information Collection 3090-0306, Transactional Data Reporting, in all correspondence related to this collection. All comments received will be posted without change to http://www.regulations.gov, including any personal and/or business confidential information provided. To confirm receipt of your comment(s), please check regulations.gov, approximately two-to-three days after submission to verify posting.

FOR FURTHER INFORMATION CONTACT: Mr. Thomas O'Linn, Procurement Analyst, General Services Acquisition Policy Division, GSA, 202-445-0390 or email gsarpolicy@gsa.gov.

SUPPLEMENTARY INFORMATION:

A. Purpose

This information collection is for GSA Federal Supply Schedules (FSS) and non-FSS offerors and contractors subject to transactional data report (TDR) requirements. Transactional data encompasses the historical details of the products or services delivered by a contractor during the performance of task or delivery orders issued against a contract subject to TDR requirements. TDR requirements are found within Alternate I of General Services Administration Acquisition Regulation (GSAR) clause 552.238-80, Industrial Funding Fee and Sales Reporting; 552.216-75, Transactional Data Reporting; Alternate I of 552.238-81, Price Reductions; 552.238-83 Examination of Records by GSA; 552.238-85, Contractor's Billing Responsibilities; and 552.238-120, Economic Price Adjustment—Federal Supply Schedule Contracts. This information collection does not apply to GSA FSS offerors and contractors subject to pricing disclosures and sales reporting requirements. The burden associated with pricing disclosures and sales reporting requirements is covered under information collection OMB control number 3090-0235, Federal Supply Schedule Pricing Disclosures and Sales Reporting.

B. Annual Reporting Burden

The total estimated annual public cost burden and total estimated annual public burden hours for this information collection is estimated to be:

Year 1 | Years 2 & 3
$121,766,340 Cost | $69,731,624 Cost.
1,553,495 hour | 1,044,217 hours.

The reason Year 1 numbers are higher than Years 2 & 3 numbers is due to the one-time costs associated with the transition of existing FSS non-TDR contracts to TDR during Year 1 of this renewal period.

These estimates are calculated by adding up the total estimated annual burden cost/hour for each of the GSAR clauses covered by this information collection. Additionally, these estimates take into account the following impacts:

1. During the renewal period of this information collection, all FSS offerors and contractors will fall under TDR (i.e., FSS offerors and contractors will no longer be subject to the aforementioned pricing disclosures and sales reporting requirements). The transition to TDR is based on Class Deviation CD-2025-13, Revised Transactional Data Reporting (TDR) Requirements for the Federal Supply Schedule (FSS) Program, which was issued on June 26, 2025. The class deviation (CD) amends the GSAR to remove certain pricing disclosures and sales reporting requirements and makes TDR requirements mandatory for the FSS program. As a result of this CD,—

a. The FSS solicitation will be amended to remove pricing disclosures and sales reporting requirements.

b. Existing FSS contractors will need to transition to TDR. GSA anticipates the transition to be completed by the end of Year 1 of this renewal period.

2. Alternate I of GSAR clause 552.216-70, Economic Price Adjustment—FSS Multiple Award Schedule Contract, was replaced by GSAR clause 552.238-120, Economic Price Adjustment—Federal Supply Schedule Contracts. This new clause is less burdensome than the prior clause and provides more flexibility.

Burden Cost/Hour Calculation

The following provides the basis for calculating the burden cost/hour for GSA clauses 552.216-75, and Alternate I of GSAR clause 552.238-80. These calculations account for the aforementioned transition to TDR during this renewal period.

Initial Setup

○ Estimated hourly rate & job position equivalency. The estimated hourly cost associated with this task is based on the task being accomplished by senior level personnel equivalent to a GS-14, Step 5 employee. A GS-14, Step 5 employee hourly rate for 2025 is $92.15 (“Rest of U.S.” locality using OPM Salary Table 2025-RUS, Effective January 2025).

○ Estimated hours by system for initial set-up. A contractor complying with TDR requirements will absorb a one-time setup burden for purposes of establishing a reporting system (i.e., automated reporting system vs. manual reporting system). The estimated setup time varies between automated and manual reporting systems. GSA estimates the average one-time initial setup burden is 10 hours for a manual system and 245 hours for an automated system.

Monthly Reporting

○ Estimated hourly rate & job position equivalency. The estimated hourly cost associated with this task is based on the task being accomplished by mid-level personnel equivalent to a GS-12, Step 5 employee. A GS-12, Step 5 employee hourly rate for 2022 is $65.58 (i.e., using “Rest of U.S.” locality within the OPM Salary Table for 2022-RUS, Effective January 2025).

○ Categorization of contractors by sales revenue. GSA estimates the likelihood of contractors with lower to no reportable sales will spend relatively little time on reporting. In contrast, contractors with more reportable sales will face a higher reporting burden. To account for this difference, GSA is using the below sales revenue categories:

Category 1: No sales activity/revenue (i.e., $0.00)

Category 2: Sales between $0.01 and $25,000.00

Category 3: Sales between $25,000.01 and $250,000.00

Category 4: Sales between $250,000.01 and $1 million

Category 5: Sales over $1 million

○ Automated system vs. manual reporting system. GSA estimates the likelihood of a contractor creating an automated reporting system increases with a contractor's sales revenue. In contrast, contractors with little to no sales revenue are unlikely to expend the effort needed to establish an automated reporting system. To account for this difference, GSA is using the below table. The below table shows by sales revenue category the estimated percentage of the likelihood of a contractor using a manual reporting system vs automated reporting system:

Percentage of Contractors by Type of Reporting System
Sales revenue category | Manual system (%) | Automated system (%)
Category 1 | 100 | 0
Category 2 | 100 | 0
Category 3 | 90 | 10
Category 4 | 50 | 50
Category 5 | 10 | 90

○ Estimated monthly reporting time (hours)—by reporting system and sales revenue category. GSA estimates that the monthly reporting time varies by type of reporting system (i.e., manual or automated) and by respective sales revenue category. The below table shows GSA's estimated monthly reporting times per sales revenue category and system type:

Monthly Hours by Type of Reporting System and Sales Revenue Category
| Manual systems | Automated systems
Category 1 | 0.5 | 2.00
Category 2 | 2.5 | 2.5
Category 3 | 5 | 3
Category 4 | 18 | 4
Category 5 | 50 | 5

GSAR Clause 552.216-75, Transactional Data Reporting

Initial Setup.

Total estimated annual burden hours: 1,610.

Total estimated annual cost burden: $148,355.

Monthly Reporting.

Total estimated annual burden hours: 222,018.

Total estimated annual cost burden: $14,559,302.

Alternate I of GSAR Clause 552.238-80, Industrial Funding Fee and Sales Reporting

Initial Setup (new awardees) (both manual and automated).

Total estimated annual burden hours: 35,485.

Total estimated annual cost burden: $3,269,796.

Initial Setup (one time burden to account for existing non-TDR FSS contracts transition to TDR) (both manual and automated).

Total estimated annual burden hours: 706,695.

Total estimated annual cost burden: $65,119,029.

Monthly Reporting.

Year 1 (both manual and automated).

Total estimated annual burden hours: 582,756.

Total estimated annual cost burden: $38,215,463.

Years 2 & 3 (both manual and automated).

Total estimated annual burden hours: 774,966.

Total estimated annual cost burden: $50,820,042.

The total estimated burden (hours/cost) for the remaining clauses covered by this information collection are as follows. These calculations account for the aforementioned transition to TDR during this renewal period as well.

552.238-120, Economic Price Adjustment—Federal Supply Schedule Contracts

Year 1

Estimated # of responses per year: 600.

Estimated burden hours per response: × 4.25.

Total estimated annual burden hours: 2,550.

Estimated cost per hour: ** × $92.15.

Total estimate annual cost burden: $234,972.

Years 2 & 3

Estimated # of responses per year: 1800.

Estimated burden hours per response: × 4.25.

Total estimated annual burden hours: 7,650.

Estimated cost per hour: ** × $92.15.

Total estimate annual cost burden: $704,916.

Alternate I of GSAR Clause 552.238-81, Price Reductions

Year 1

Estimated # of responses per year: 25.

Estimated burden hours per response: × 4.25.

Total estimated annual burden hours: 106.

Estimated cost per hour: ** × $92.15.

Total estimate annual cost burden: $9,790.

Years 2 & 3

Estimated # of responses per year: 50.

Estimated burden hours per response: × 4.25.

Total estimated annual burden hours: 213.

Estimated cost per hour: ** × $92.15.

Total estimate annual cost burden: $19,581.

552.238-83, Examination of Records by GSA

Year 1 Through Year 3

Estimated # of respondents per year: 5.

Estimated burden hours per respondent: × 455.

Total estimated annual burden hours: 2,275.

Estimated cost per hour: ** × $92.15.

Total estimated annual cost burden: $209,632.

552.238-85, Contractor's Billing Responsibilities, is 0 burden hours/$0.00 burden cost for Years 1 through 3. The reason for zero burden being associated with this clause is because the record keeping requirement contained in this clause does not add any additional burden to what is already captured by Alternate I of GSAR clause 552.238-80, which is covered by this information collection.

** The estimated cost per hour is based on the task being accomplished by personnel equivalent to a GS-14, Step 5. A GSA-14, Step 5 employee hourly rate for 2025 is $92.15.

C. Public Comments

Public comments are particularly invited on: Whether this collection of information continues to be necessary and whether it continues to have practical utility; whether GSA's estimate of the public burden of this collection of information is accurate and based on valid assumptions and methodology; and ways to enhance the quality, utility, and clarity of the information to be collected.

Obtaining Copies of Proposals: Requesters may obtain a copy of the information collection documents from the GSA Regulatory Secretariat Division, by calling 202-501-4755 or emailing GSARegSec@gsa.gov. Please cite “Information Collection 3090-0306, Transactional Data Reporting”, in all correspondence.

Jeffrey A. Koses,
Senior Procurement Executive, Office of Acquisition Policy, Office of Government-wide Policy.

[FR Doc. 2025-19116 Filed 9-30-25; 8:45 am]

BILLING CODE 6820-61-P